SMALL BUSINESS ADMINISTRATION

[Disaster Declaration #10029 and #10030]

Ohio Disaster Number OH-00002

AGENCY: U.S. Small Business Administration.

ACTION: Amendment 1.

SUMMARY: This is an amendment of the Presidential declaration of a major disaster for the State of Ohio (FEMA-1580-DR), dated February 15, 2005.

Incident: Severe Winter Storms, Flooding, and Mudslides.

Incident Period: December 22, 2004, through February 1, 2005.

DATES: Effective Date: March 9, 2005.

Physical Loan Application Deadline Date: April 18, 2005.

EIDL Loan Application Deadline Date: November 15, 2005.

ADDRESSES: Submit completed loan applications to: U.S. Small Business Administration, Disaster Area Office 1, 360 Rainbow Blvd. South 3rd Floor, Niagara Falls, NY 14303.

FOR FURTHER INFORMATION CONTACT: A. Escobar, Office of Disaster Assistance, U.S. Small Business Administration, 409 3rd Street, Suite 6050, Washington, DC 20416.

SUPPLEMENTARY INFORMATION: The notice of the Presidential disaster declaration for the State of Ohio dated February 15, 2005, is hereby amended to include the following areas as adversely affected by the disaster.

Primary Counties: Darke, Fairfield, Guernsey, Hocking, Holmes, Licking, Richland, Stark, Tuscarawas.

Contiguous Counties: Ohio: Ashland, Mahoning, Mercer, Portage, Preble, Summit, Wayne.

Indiana: Jay, Randolph, Wayne.

All other information in the original declaration remains unchanged.

(Catalog of Federal Domestic Assistance Numbers 59002 and 59008.)
Herbert L. Mitchell,
Associate Administrator for Disaster Assistance.

[FR Doc. 05-5303 Filed 3-16-05; 8:45 am]

BILLING CODE 8025-01-P